DEPARTMENT OF LABOR

Office of the Secretary

Notice of Initial Determination Updating the List of Products Requiring Federal Contractor Certification as to Forced/Indentured Child Labor Pursuant to Executive Order 13126

AGENCY: Bureau of International Labor Affairs, Labor.

ACTION: Request for comments.

SUMMARY: This initial determination proposes to update the list required by Executive Order No. 13126 (“Prohibition of Acquisition of Products Produced by Forced or Indentured Child Labor”), in accordance with the “Procedural Guidelines for the Maintenance of the List of Products Requiring Federal Contractor Certification as to Forced or Indentured Child Labor.” This notice sets forth an updated list of products, by country of origin, which the Department of Labor preliminarily believes might have been mined, produced, or manufactured by forced or indentured child labor. The Department of Labor invites public comment on its initial determination as to products that appear on the updated list set forth in this notice. The Department will consider all public comments prior to publishing a final determination updating the list of products, made in consultation and cooperation with the Department of State, and the Department of Homeland Security.

DATES: Information should be submitted to the Office of Child Labor, Forced Labor and Human Trafficking (OCFT) via one of the methods described below by 5 p.m., December 10, 2009.

To Submit Information, or for Further Information, Contact: OCFT, Bureau of International Labor Affairs, U.S. Department of Labor at (202) 693-4843 (this is not a toll free number). Comments, identified as “Docket No. DOL-2009-0002,” may be submitted by any of the following methods:

• Federal eRulemaking Portal: http://www.regulations.gov. The portal includes instructions for submitting comments. Parties submitting responses electronically are encouraged not to submit paper copies.

• Facsimile (fax): OCFT at 202-693-4830.

• Mail, Express Delivery, Hand Delivery, and Messenger Service (2 copies): Charita Castro or Rachel Rigby at U.S. Department of Labor, OCFT, Bureau of International Labor Affairs, 200 Constitution Avenue, NW., Room S-5317, Washington, DC 20210.

• E-mail: EO13126@dol.gov.

SUPPLEMENTARY INFORMATION:

I. Background

Executive Order No. 13126 (EO 13126), which was published in the Federal Register on June 16, 1999 (64 FR 32383), declared that it was “the policy of the United States Government * * * that the executive agencies shall take appropriate actions to enforce the laws prohibiting the manufacture or importation of good, wares, articles, and merchandise mined, produced or manufactured wholly or in part by forced or indentured child labor.” Pursuant to the EO 13126, and following public notice and comment, the Department of Labor published in the January 18, 2001, Federal Register, a final list of products (the “List”), identified by their country of origin, that the Department, in consultation and cooperation with the Departments of State and Treasury [relevant responsibilities now within the Department of Homeland Security], had a reasonable basis to believe might have been mined, produced or manufactured with forced or indentured child labor (66 FR 5353). In addition to the List, the Department also published on January 18, 2001, “Procedural Guidelines for Maintenance of the List of Products Requiring Federal Contractor Certification as to Forced or Indentured Child Labor” (Procedural Guidelines), which provide for maintaining, reviewing, and, as appropriate, revising the List (66 FR 5351). The current List and the Procedural Guidelines can be accessed on the Internet at http://www.dol.gov/ILAB/regs/eo13126/main.htm or can be obtained from: OCFT, Bureau of International Labor Affairs, Room S-5317, U.S. Department of Labor, 200 Constitution Avenue, NW., Washington, DC 20210; telephone: (202) 693-4843; fax (202) 693-4830.

Pursuant to Section 3 of the Executive Order, the Federal Acquisition Regulatory Councils published a final rule in the Federal Register on January 18, 2001, providing, amongst other requirements, that Federal contractors who supply products that appear on the List issued by the Department of Labor must certify to the contracting officer that the contractor, or, in the case of an incorporated contractor, a responsible official of the contractor, has made a good faith effort to determine whether forced or indentured child labor was used to mine, produce or manufacture any product furnished under the contract and that, on the basis of those efforts, the contractor is unaware of any such use of child labor. See 48 CFR Subpart 22.15.

II. Update to EO 13126 List

Pursuant to Sections D through G of the Procedural Guidelines, the EO 13126 List may be updated through considerations of submissions by individuals or through OCFT's own initiative. When updating the List on its own initiative, the Department of Labor must publish in the Federal Register a notice of initial determination, which includes any proposed alteration to the List. The Department will consider all public comments prior to the publication of a final determination of an updated list, which is made in consultation and cooperation with the Departments of State and Homeland Security.

III. Definition of Forced/Indentured Child Labor

Under Section 6(c) of EO 13126:

“Forced or indentured child labor” means all work or service—

(1) Exacted from any person under the age of 18 under the menace of any penalty for its nonperformance and for which the worker does not offer himself voluntarily; or

(2) Performed by any person under the age of 18 pursuant to a contract the enforcement of which can be accomplished by process or penalties.

Information Sought

The Department is requesting public comment on the proposed updated EO 13126 List (see list of products and countries below), the inclusion of certain products on the List, the exclusion of other products from the List, and any other issue related to the fair and effective implementation of this aspect of EO 13126. This notice is a general solicitation of comments from the public. All submitted comments will be made a part of the record of the review referred to above and will be made available for public inspection.

In preparing the initial determination updating the List, the Department of Labor considered the products and countries mentioned in its child labor reports. It also considered the testimony, written submissions, and other information presented to the Department, as well as research on 77 countries carried out by the Department, in connection with its mandates under the 2005 Trafficking Victims Protection Reauthorization Act (TVPRA) to produce a “List of Goods from Countries that the Bureau of International Labor Affairs has Reason to Believe are Produced by Forced Labor or Child Labor in Violation of International Standards.” The TVPRA list encompassed both goods made with forced labor and child labor, whereas the EO 13126 List only includes products made with forced or indentured child labor. Information on the TVPRA can be found at http://www.dol.gov/ILAB/programs/ocft/tvpra.htm. Finally, the Department considered information provided in two public submissions alleging forced or indentured child labor. The first was a public submission by Free the Slaves alleging forced child labor in the cocoa industry in Cote d'Ivoire, which was accepted for review by the Department on March 20, 2001. The second was a public submission accepted for review on October 1, 2007 by State Department Watch alleging the use of forced child labor in the production of bricks, coal, foundry products, chemicals, cotton, grape products, toys, and fireworks in China. The Department has consulted and cooperated with the Departments of State and Homeland Security in the initial determination of the updated list of products.

In developing the updated list of products, our review focused on available information concerning the use of forced or indentured child labor. The lack of available information does not, by itself, establish that, in any particular country, or for any particular product, forced or indentured child labor is not being used. Government resources for acquiring information are limited. In addition, information about actual working conditions in some countries is difficult or impossible to obtain, for a variety of reasons. For example, governments may be unable or unwilling to cooperate with international efforts, or the efforts of non-governmental organizations, to uncover and address abuses. Institutions or organizations that might uncover such information, such as free and independent news media, trade unions, and non-governmental organizations may not exist. In short, the list of products should not be taken as presenting a complete picture of the use of forced or indentured child labor around the world.

As outlined in the Procedural Guidelines, several factors were weighed in determining whether or not a product should be placed on the updated list: the nature of the information describing the use of forced or indentured child labor; the source of the information; the date of the information; the extent of corroboration of the information by appropriate sources; whether the information involved more than an isolated incident; and whether recent and credible efforts are being made to address forced or indentured child labor in a particular country and industry.

Based on recent, credible, and appropriately corroborated information from various sources, the Departments of Labor, State, and Homeland Security have preliminarily concluded that there is a reasonable basis to believe that the following products, identified by their country of origin, might have been mined, produced, or manufactured by forced or indentured child labor. The below list of products, by country of origin, constitutes the initial determination updating the EO 13126 list issued January 18, 2001.

Product | Countries
Bamboo | Burma
Beans (green, soy, yellow) | Burma
Brazil Nuts/Chestnuts | Bolivia
Bricks | Burma, China, India, Nepal, Pakistan
Carpets | India, Nepal, Pakistan
Charcoal | Brazil
Coal | Pakistan
Coca (stimulant plant) | Colombia
Cocoa | Cote d'Ivoire, Nigeria
Coffee | Cote d'Ivoire
Cotton | Benin, Burkina Faso, China, Tajikistan, Uzbekistan
Cottonseed (hybrid) | India
Diamonds | Sierra Leone
Electronics | China
Embroidered Textiles (zari) | India, Nepal
Garments | Argentina, India, Thailand
Gold | Burkina Faso
Granite | Nigeria
Gravel (crushed stones) | Nigeria
Pornography | Russia
Rice | Burma, India, Mali
Rubber | Burma
Shrimp | Thailand
Stones | India, Nepal
Sugarcane | Bolivia, Burma
Teak | Burma
Tilapia (fish) | Ghana
Tobacco | Malawi
Toys | China

The Department of Labor invites public comment on whether these products (and/or other products, regardless of whether they are mentioned in this Notice) should be included on the updated List of products requiring Federal contractor certification as to the use of forced or indentured child labor. To the extent possible, comments provided should address the Procedural Guideline factors discussed above. The Department is also interested in public comments relating to whether products initially determined to be on the List are designated with appropriate specificity and what, if any, alternative designations would better serve the purposes of EO 13126.

The bibliographies providing the preliminary basis for including each product on the list are available on the Internet at http://www.dol.gov/ILAB/regs/eo13126/main.htm.

As explained, following receipt and consideration of comments on the updated List set out above, the Department of Labor, in consultation and cooperation with the Departments of State Homeland Security, will issue a final determination in the Federal Register providing a final list of products. The Department of Labor intends to continue to revise the List periodically, to add and/or delete products, as justified by new information.

Signed at Washington, DC, this 2nd day of September 2009.
Sandra Polaski,
Deputy Undersecretary, Bureau of International Labor Affairs.

[FR Doc. E9-21507 Filed 9-10-09; 8:45 am]

BILLING CODE 4510-28-P